DEPARTMENT OF HEALTH AND HUMAN SERVICES

National Institutes of Health

Fogarty International Center (FIC) 2007-2011 Strategic Plan

AGENCY: John E. Fogarty International Center (FIC), National Institutes of Health. (NIH), Department of Health and Human Services (DHHS).

ACTION: Notice with request for comments.

SUMMARY: The FIC is initiating a strategic planning process to culminate in the FIC Strategic Plan 2007-2011. To anticipate and set priorities for global health research and research training, FIC requests input from scientists, the general public, and interested parties. The goal of this strategic planning process is to identify current and future needs and directions for global health research. The existing FIC strategic plan can be viewed at http://www.fic/nih.gov/about/plan/StrategicPlan.pdf.

DATES: In order to ensure full consideration, responses must be submitted by November 15, 2006.

ADDRESSES: Interested persons and organizations should submit their responses to Strategic Plan, Fogarty International Center, National Institutes of Health, 16 Center Drive, Building 16, MSC 6705, Bethesda, MD 20892-6705, telephone 301-594-7857, Fax 301-496-8496, E-mail: FICStratPlan@nih.gov. Comments may be submitted electronically via the Strategic Planning Web site located at http://nihfictest.cit.nih.gov/StratPlan/index.htm. Comments may also be submitted by mail or fax to the address above.

SUPPLEMENTARY INFORMATION:

Background

The Fogarty International Center (FIC) works to enhance global health by promoting and supporting health research and research training worldwide. The Center uses a variety of international research and research training grants and fellowships to build research capacity and human capital in developing countries and foster partnerships between U.S. scientists and their foreign counterparts. The FIC is currently developing a new strategic plan to guide Center activities for the next 5 years mindful of the need to set research and research training priorities. We welcome outside participation in the process.

Request for Comments: To ensure the continued relevance of its Strategic Plan, the FIC seeks input on the following questions:

(A) What do you see as the major emerging opportunities and challenges in basic, applied and translational global health research?

(B) What are the specific gaps or barriers in current global health research that should be addressed by FIC in the future?

(C) What strategies can FIC pursue to enhance the ability of research institutions in low and middle income countries to become more sustainable research enterprises?

(D) How can we enhance our collaborations with the foreign policy community to facilitate global health research and research training?

(E) What are the outreach and communications opportunities in global health research that should be addressed by FIC?

(F) What are the key health research training experiences that FIC should support to attract and prepare the next generation of U.S. scientists for careers in global health research?

(G) For current and former FIC trainees or others involved in FIC research training awards:

(i) How has FIC helped to advance your career in the past and helped to build health research capacity at your institution?

(ii) Do you have any suggestions for future FIC directions with respect to health research training and capacity building?

(H) Other comments.

FOR FURTHER INFORMATION CONTACT: To obtain more information on the proposed project or to obtain a copy of the data collection plans and instruments, please contact: Dr. Linda Kupfer, Fogarty International Center, National Institutes of Health, 16 Center Drive, Building 16, Bethesda, MD 20892-6705, or call 301-496-3288 (this is not a toll-free number), or e-mail your request, including your address to: KupferL@mail.nih.gov.

Dated: October 2, 2006.
Richard Miller,
Executive Officer, FIC, National Institutes of Health.

[FR Doc. E6-16527 Filed 10-5-06; 8:45 am]

BILLING CODE 4140-01-P